DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket Number FRA-2003-15639

Applicant: New Jersey Transit, Mr. William B. Duggan, Vice President and General Manager, Rail Operations, One Penn Plaza East, Newark, New Jersey 07105-2246.

New Jersey Transit (NJT) seeks temporary relief from the requirements of section 236.566 of the Rules, Standard and Instructions, to the extent that NJT be permitted to operate non-equipped New York Susquehanna and Western (NYS&W) steam locomotive number 142, in automatic train control territory, on NJT's Raritan Valley Line between Cranford, New Jersey, milepost 15.0 and High Bridge, New Jersey, milepost 52.2, on Saturday and Sunday, September 13 and 14, 2003, in celebration of the City of Dunellen, New Jersey's event, “Dunellen Railroad Days.” In addition, NJT seeks temporary relief from the requirements in section 236.566 to the extent that NJT be permitted to operate non-equipped NYS&W steam locomotive number 142, in automatic train control territory, on NJT's Montclair and Morristown Lines between Newark, New Jersey, milepost 9.0 and Hackettstown, New Jersey, milepost 56.9, on Saturday and Sunday, October 4 and 5, 2003, in celebration of the Borough of Lincoln Park, New Jersey's event, “Lincoln Park Days.”

Also, excursion trips are in the planning stages that would either take place on NJT's Main Line to Suffern, New York, then over MTA Metro-North Railroad (MNR) to Port Jervis, New York, or on NJT's Bergen County Line to the NYS&W interchange at BT Interlocking, milepost 14.2. Thus, NJT seeks temporary relief from the requirements in section 236.566 to the extent that NJT be permitted to operate non-equipped NYS&W steam locomotive number 142, in automatic train control territory, on NJT's Main Line between Jersey City, New Jersey, milepost 2.2 and Suffern, New York, milepost 30.5, or on the Bergen County Line between Jersey City, New Jersey, milepost P 2.2 and Ridgewood Junction Interlocking, milepost 19.0, on Saturday and Sunday, October 11 and 12, and October 25 and 26, 2003, for the proposed NYS&W Technical and Historical Society events.

Applicant's justification for relief: The three NJT lines are equipped with automatic block signals and operate under NORAC Rules 251 and 261, and the steam excursion train movements for each event would be limited to no more than four trips daily, would not exceed 50 miles per hour, and would establish an absolute block ahead of each movement.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Since the anticipated operations would take place early next month, communications must be received within 15 days of the date of this notice to be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on August 13, 2003.
George Gavalla,
Associate Administrator for Safety.

[FR Doc. 03-21424 Filed 8-20-03; 8:45 am]

BILLING CODE 4910-06-P